FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 13, 2012.

A. Federal Reserve Bank of Minneapolis (Jacqueline G. King, Community Affairs Officer) 90 Hennepin Avenue, Minneapolis, Minnesota 55480-0291:

1. Jill M. Frei Trust, Wagner, South Dakota, (Security National Bank of South Dakota, Dakota Dunes, South Dakota, trustee; Jill M. Frei with power to vote shares); to acquire voting shares of Commercial Holding Company, and thereby indirectly acquire voting shares of Commercial State Bank of Wagner, both in Wagner, South Dakota.

B. Federal Reserve Bank of Kansas City (Dennis Denney, Assistant Vice President) 1 Memorial Drive, Kansas City, Missouri 64198-0001:

1. Number One-A Irrevocable Trust, Number Two-A Irrevocable Trust, and John A. Fox, trustee, all of Denver, Colorado; to become members of the Sturm control group, and acquire voting shares of Sturm Financial Group, Inc., and thereby indirectly acquire voting shares of ANB Bank, both in Denver, Colorado.

C. Federal Reserve Bank of Dallas (E. Ann Worthy, Vice President) 2200 North Pearl Street, Dallas, Texas 75201-2272:

1. Robert Edward Berryhill, individually and as co-trustee of Bastrop Bancshares, Inc., Employee Stock Ownership Plan, Smithville, Texas; to acquire voting shares of Bastrop Bancshares, Inc., and indirectly acquire voting shares of First National Bank, Bastrop, Texas.

Board of Governors of the Federal Reserve System, October 23, 2012.
Margaret McCloskey Shanks,
Associate Secretary of the Board.

[FR Doc. 2012-26368 Filed 10-25-12; 8:45 am]

BILLING CODE 6210-01-P